DEPARTMENT OF TRANSPORTATION

Federal Aviation Administration

14 CFR Part 39

[Docket No. 2000-SW-50-AD; Amendment 39-13123; AD 2001-13-03 R1]

RIN 2120-AA64

Airworthiness Directives; Kaman Aerospace Corporation Model K-1200 Helicopters

AGENCY: Federal Aviation Administration, DOT.

ACTION: Final rule.

SUMMARY: This amendment revises an existing airworthiness directive (AD) for Kaman Aerospace Corporation (Kaman) Model K-1200 helicopters that currently requires reducing the life limit of the rotor shaft and teeter pin assembly and establishing a life limit for the flap clevis. This amendment retains those requirements but removes a flap clevis part number from the applicability and, as a result of a comment, changes the application of the life limit from the flap clevis to the flap clevis assembly. This amendment is prompted by the determination after an analysis of testing results that a certain flap clevis assembly should have an unlimited life. The actions specified by this revision are intended to remove the life limit for a specified flap clevis assembly. The actions specified by this AD are intended to prevent fatigue failure of the rotor shaft, teeter pin assembly, and flap clevis assembly, and subsequent loss of control of the helicopter.

DATES: Effective May 27, 2003.

FOR FURTHER INFORMATION CONTACT: Richard Noll, Aviation Safety Engineer, Boston Aircraft Certification Office, 12 New England Executive Park, Burlington, MA 01803, telephone (781) 238-7160, fax (781) 238-7170.

SUPPLEMENTARY INFORMATION: A proposal to amend 14 CFR part 39 by revising AD 2001-13-03, Amendment 39-12283 (66 FR 34102, June 27, 2001), for 1 Kaman Model K-1200 helicopters, was published in the Federal Register on May 13, 2002 (67 FR 31992). The action proposed retaining the existing life limit for each rotor shaft, teeter pin assembly, and flap clevis, except flap clevis, part number (P/N) K911049-021. That action was prompted by the determination after an analysis of testing results that flap clevis, P/N K911049-021, should have an unlimited life.

Interested persons have been afforded an opportunity to participate in the making of this amendment. Due consideration has been given to the comment received. The one commenter, the manufacturer, states that the flap clevis assembly part numbers should be identified instead of the flap clevis part numbers to be consistent with actual current maintenance practices. The FAA agrees because we have approved a revision to the Airworthiness Limitations of the Kaman Model K-1200 helicopter maintenance manual that imposes the life limit on the flap clevis assembly part numbers not the flap clevis part numbers. The proposed change will make this AD consistent with the Airworthiness Limitations section. Additionally, two part numbers for the flap clevis were incorrectly stated in paragraph (b) of the proposed AD; however, this change to flap clevis assembly parts number also corrects that error.

After careful review of the available data, including the comments noted above, the FAA has determined that air safety and the public interest require adopting the rule with the changes described previously. The FAA has determined that these changes will neither increase the economic burden on any operator nor increase the scope of the AD.

The FAA estimates that this AD will affect nine helicopters of U.S. registry. No additional costs will be incurred to accomplish the proposed actions because it would relieve a previously-imposed AD life limit for flap clevis, P/N K911049-021.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the FAA, Office of the Regional Counsel, Southwest Region, 2601 Meacham Blvd., Room 663, Fort Worth, Texas 76137.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing Amendment 39-12283 (66 FR 34102, June 27, 2001), and by adding a new airworthiness directive (AD), Amendment 39-13123, to read as follows:

2001-13-03 R1 Kaman Aerospace Corporation: Amendment 39-13123. Docket No. 2000-SW-50-AD. Revises AD 2001-13-03, Amendment 39-12283, Docket No. 2000-SW-50-AD.

Applicability: Model K-1200 helicopters, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in 2 accordance with paragraph (c) of this AD. The request should include an assessment of the effect of the modification, alteration, or repair on the unsafe condition addressed by this AD; and if the unsafe condition has not been eliminated, the request should include specific proposed actions to address it.

Compliance: Required as indicated, unless accomplished previously.

To prevent failure of the rotor shaft, teeter pin assembly, or flap clevis due to fatigue cracks, and subsequent loss of control of the helicopter, accomplish the following:

(a) Before further flight, remove any rotor shaft, part number (P/N) K974112-001, -003, -005, -007, -009, or -101, that has 3,750 or more hours time-in-service (TIS) and replace it with an airworthy part. Remove any teeter pin assembly, P/N K910005-007 or -009, that has 550 or more hours TIS and replace it with an airworthy part. Remove any flap clevis assembly, P/N K911049-001, -003, or -005, that has 640 or more hours TIS, and replace it with an airworthy part.

(b) This AD revises the Limitations section of the maintenance manual by removing the life limit of 640 hours TIS established for the flap clevis, P/N K911049-021. The life limit for each rotor shaft, P/N K974112-001, -003, -005, -007, -009, and -101 remains at 3,750 hours TIS; the life limit for each teeter pin assembly, P/N K910005-007 and -009, remains at 550 hours TIS; and the life limit for each flap clevis assembly, P/N K911049-001, -003, and -005 remains at 640 hours TIS.

(c) An alternative method of compliance or adjustment of the compliance time that provides an acceptable level of safety may be used if approved by the Manager, Boston Aircraft Certification Office, FAA. Operators shall submit their requests through an FAA Principal Maintenance Inspector, who may concur or comment and then send it to the Manager, Boston Aircraft Certification Office.

Note 2: Information concerning the existence of approved alternative methods of compliance with this AD, if any, may be obtained from the Boston Aircraft Certification Office.

(d) Special flight permits will not be issued.

(e) This amendment becomes effective on May 27, 2003.

Issued in Fort Worth, Texas, on April 9, 2003.
Michele M. Owsley,
Acting Manager, Rotorcraft Directorate, Aircraft Certification Service.

[FR Doc. 03-9576 Filed 4-18-03; 8:45 am]

BILLING CODE 4910-13-P